DEPARTMENT OF THE INTERIOR

Fish and Wildlife Service

[FWS-R8-NWRS-2024-N057; FXRS12610800000-256-FF08R04000]

Bayside Community Resiliency: The Living Levee Project; Intent To Prepare Environmental Impact Statement

AGENCY: Fish and Wildlife Service, Interior.

ACTION: Notice of intent.

SUMMARY: The U.S. Fish and Wildlife Service (Service) and the City of Imperial Beach propose to act in partnership to prepare a joint draft Environmental Impact Statement/Environmental Impact Report in compliance with the National Environmental Policy Act (NEPA) and the California Environmental Quality Act (CEQA) to evaluate the impacts on the environment related to the repurposing of a 1.2-mile segment of the Bayshore Bikeway corridor and adjacent pathways into a multi-benefit coastal resilience corridor. This corridor runs through the southwestern portion of the San Diego Bay National Wildlife Refuge and the adjacent Bayside neighborhood of the City of Imperial Beach. The purpose of the coastal resilience corridor is to improve flood protection for the adjacent community, which is vulnerable to coastal flooding, by converting the existing circulation corridor into a nature-based coastal flood resilience system; provide safe land-based public access along San Diego Bay; and strengthen ecosystem resilience by providing transitional habitat areas along the San Diego Bay's edge. The unique identification number for this project is 2025-0003688-NEPA-001. The Service is providing this notice to open a public scoping period in accordance with the requirements of NEPA and its implementing regulations. We invite comment from the public and local, State, Tribal, and Federal agencies.

DATES: To ensure consideration in our reviews, we are requesting submission of new information no later than February 24, 2025.

ADDRESSES: You may submit written comments and materials by one of the following methods:

• U.S. mail: San Diego Bay National Wildlife Refuge, Attn: Bayside Community Resiliency Project, 1080 Gunpowder Point Drive, Chula Vista, CA 91910.

• Email: fw8plancomments@fws.gov. Please use the subject header “Bayside Community Resiliency Project.”

FOR FURTHER INFORMATION CONTACT: Sally Brown, Refuge Manager, Tijuana Slough and San Diego Bay National Wildlife Refuges, via email at sally_brown@fws.gov or via phone at (619) 964-1980. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The U.S. Fish and Wildlife Service (Service) and the City of Imperial Beach propose to act in partnership to prepare a joint draft Environmental Impact Statement/Environmental Impact Report (EIS/EIR) in compliance with the National Environmental Policy Act (NEPA) and the California Environmental Quality Act (CEQA) to evaluate the impacts on the environment related to repurposing of a 1.2-mile segment of the Bayshore Bikeway corridor and adjacent pathways into a multi-benefit coastal resilience corridor. The Service is the NEPA lead agency, and Imperial Beach is the CEQA lead agency. Both agencies are working in cooperation with the Federal Emergency Management Agency; U.S. Army Corps of Engineers; and Department of Defense, U.S. Navy as cooperating agencies, and propose to act in partnership to prepare the joint draft EIS/EIR.

The corridor runs through the southwestern portion of the San Diego Bay National Wildlife Refuge, the adjacent Bayside neighborhood of the City of Imperial Beach, and the Bayside Elementary School playing field. The purpose of the coastal resilience corridor is to (a) improve flood protection for the adjacent community, which is vulnerable to coastal flooding, by converting the existing circulation corridor into a nature-based coastal flood resilience system; (b) provide safe land-based public access along San Diego Bay; and (c) strengthen ecosystem resilience by providing transitional habitat areas along the San Diego Bay's edge.

We are requesting comments concerning the scope of the analysis and identification of relevant information and studies. The approximately 14-acre Bayside Community Resiliency: The Living Levee Project site traverses jurisdictional areas managed by, leased to, or with an easement or encroachment permit within the City of Imperial Beach; City of Coronado; City of San Diego; San Diego Unified Port District; Service's San Diego Bay National Wildlife Refuge; Department of Defense, U.S. Navy; South Bay Unified School District; and San Diego Metropolitan Transit System properties in San Diego County, California.

Purpose and Need for the Proposed Action

The purpose of the Bayside Community Resiliency: The Living Levee Project is to:

• Mitigate current flooding hazards and future sea level rise hazards to the disadvantaged Bayside Community.

• Protect critical infrastructure, as well as preserve and enhance coastal resources, including salt marsh habitat within the San Diego Bay National Wildlife Refuge.

• Provide safe coastal access, such as the multi-use path and pedestrian/cyclist bridge that will be integrated into the nature-based living levee.

The need for the Bayside Community Resiliency: The Living Levee Project is as follows:

• The Bayside neighborhood and Bayside Elementary School are vulnerable to existing flooding and future sea level rise, and there is a need for enhanced flood protection.

• The primary coastal hazards within the Bayside Community Resiliency Project area consist of coastal and stormwater flooding. This currently occurs in the City of Imperial Beach during extreme conditions (i.e., precipitation events or high tides). Sea level rise will increase the frequency and severity of these hazards. Tidal water from San Diego Bay currently backflows into the stormwater system and has been observed flooding storm drain inlets in Bayside Elementary, as well as within the streets of the Bayside neighborhood. Sea level rise threatens to make these stormwater flooding issues more pronounced in the Bayside neighborhood as the storm drain capacity lessens.

• The City of Imperial Beach section of the Bayside Community Resiliency Project is becoming less safe for all users, and there is a need for improved coastal access. The City of Imperial Beach section of the Bayshore Bikeway has a high volume of daily users, and lack of access points results in hazards for pedestrians and cyclists.

• Pond 10 and Pond 10A are former solar salt ponds located in the southwest corner of the San Diego Bay National Wildlife Refuge. Vulnerable to sea level rise, the topography of the existing marsh fringe in Pond 10A provides limited habitat transition area and significantly constrains marsh migration with projected sea level rise. Therefore, the limited transition area could decrease vegetation diversity and persistence. With projected sea level rise, much of the tidal flats would convert to open water. Therefore, there is a need for strengthened ecosystem resilience by adding transitional habitat areas along the San Diego Bay's edge.

Preliminary Proposed Action and Alternatives

Four alternatives, Proposed Action Alternative (Alternative 1), Ring Levee Alternative (Alternative 2), Reduced Action Alternative (Alternative 3), and the No Action Alternative (Alternative 4), will be evaluated in the draft Environmental Impact Statement/Environmental Impact Report, as discussed below.

Proposed Action Alternative (Alternative 1)

Within the jurisdiction of the cities of Imperial Beach, San Diego, and Coronado, as well as the Service's San Diego Bay National Wildlife Refuge, the Proposed Action Alternative (Alternative 1) would remove the existing culvert between Pond 10 and Pond 10A to avoid further erosion of Refuge lands along the State Route 75 (Silver Strand Highway) and replace it with fill; excavate a portion of the Bayshore Bikeway and Ponds 10 and Pond 10A to create a tidal channel and span the new tidal opening with a 200-foot-long bicycle and pedestrian bridge; elevate portions of the Bayshore Bikeway east and west of the bridge; and construct a living earthen levee along the Flamingo Trail and from 7th Street to Boulevard Avenue. A tidal channel would be constructed under the bridge to restore tidal connection and alleviate existing erosion. An additional living earthen levee would be constructed along Flamingo Trail and between 7th Street and 10th Street. A Class 1 bikeway and separate multi-use trail would be constructed atop the living levees. Upland habitat would be converted to mid-to-high marsh (i.e., wetland) habitat to increase and enhance wetland habitat within the San Diego Bay National Wildlife Refuge. Public access nodes (parklets) would be created at the northern terminus of 7th Street and 8th Street. Drainage improvements would occur along 7th Street, including installation of a single pump station for stormwater between Delaware Street and Boulevard Avenue. Storm drains would be reconfigured between 9th Street, 10th Street, Palm Avenue, and Bayside Elementary School to increase flood conveyance capacity. A multi-purpose detention basin and park would be constructed on the existing Bayside Elementary School recreational field, with a tidal gate installed at the stormwater outlet.

Ring Levee Alternative (Alternative 2)

This alternative is the same as the Proposed Action (Alternative 1), except that the entire dike between Pond 10 and Pond 10A would be demolished. A living levee would be constructed from the northern terminus of the Flamingo Trail, clockwise to where the existing Bayshore Bikeway intersects with State Route 75. Alternative 2 would result in a larger development footprint, greater excavation, and greater soil placement than Alternative 1.

Reduced Action Alternative (Alternative 3)

The alternative is similar to the Proposed Action (Alternative 1), except the Reduced Action Alternative (Alternative 3) contains fewer of the project design features. Alternative 3 would construct a living earthen levee only along the Flamingo Trail and between 7th Street and 8th Street. The same as Alternative 1, Alternative 3 provides stormwater improvements and constructs a multi-purpose detention basin and park on the existing Bayside Elementary School recreational field, with a tidal gate installed at the stormwater outlet. Alternative 3 would result in no tidal restoration of Pond 10A within the San Diego Bay National Wildlife Refuge and would provide limited improvements to safe public access for pathway users.

No Action Alternative (Alternative 4)

The No Action Alternative (Alternative 4) would have no changes to existing conditions.

Summary of Expected Impacts

Based on the initial evaluation of the Proposed Action Alternative (Alternative 1), the following impacts would be expected: short-term disturbance to and changes in habitat conditions for listed and sensitive species; short-term loss of wetlands from the discharge of dredged or fill into waters of the United States and the expected long-term increase in wetlands from sea level rise along the living shoreline levee; construction-related effects, including temporary increases in dust and other air pollutants from the use of fossil fuels in construction machinery and vehicles, construction noise and vibration, and temporary adverse water quality associated with grading and earthwork occurring within existing wetlands and shallow water; temporary changes to existing public access; and potential effects on cultural resources. Operational and long-term benefits would include improved resiliency to future sea level rise, increased capacity for current and future stormwater flooding, a reduction in scour and erosional effects, and enhanced wetland and upland habitat.

Anticipated Permits and Authorizations

The following permits and other authorizations are anticipated to be required:

• U.S. Army Corps of Engineers Clean Water Act (CWA) section 404 permit, Rivers and Harbors Act section 10 permit, and others, if appropriate;

• San Diego Regional Water Quality Control Board CWA section 401 water quality certification;

• Federal Consistency Determination from the California Coastal Commission;

• Department of Defense, U.S. Navy permit for construction access and activities on Department of Defense land;

• Construction access and activity permits (e.g., grading) from the City of San Diego, San Diego Unified Port District, and San Diego Metropolitan Transit System;

• San Diego Unified Port District—Real Estate Agreement(s);

• Authorization from the San Diego Metropolitan Transit System and South Bay Unified School District;

• Refuge special-use permit issued to the City of Imperial Beach for construction access and activities on San Diego Bay National Wildlife Refuge land;

• Consultation pursuant to section 7 of the Federal Endangered Species Act with the Service and National Marine Fisheries Service;

• Consultation with the National Marine Fisheries Service regarding essential fish habitat under the Magnuson-Stevens Fishery Conservation and Management Act, and consultation regarding marine mammals pursuant to the Marine Mammal Protection Act; and

• Consultation with Tribes and the State Historic Preservation Officer pursuant to section 106 of the National Historic Preservation Act.

Schedule for the Decision-Making Process

Processing of the Environmental Impact Statement, from the public scoping stage to the signing of the Record of Decision, is expected to take approximately 18 months. The draft Environmental Impact Statement/Environmental Impact Report is scheduled for release in mid-2025. The final Environmental Impact Statement/Environmental Impact Report is scheduled for completion by late 2025, with the Record of Decision expected to be issued in early 2026. Permitting is expected to be completed at approximately the same time as the signing of the Record of Decision.

Environmental Impact Statement Public Scoping Process

This notice of intent initiates the 45-day scoping process, which guides the development of the draft Environmental Impact Statement. The scoping process is designed to elicit comments from the public, public agencies, Tribal governments, and other interested parties on the scope of the draft Environmental Impact Statement. All interested parties are encouraged to provide written comments on the scope of the draft Environmental Impact Statement.

Request for Identification of Potential Alternatives, Information, and Analyses Relevant to the Proposed Action

The Service requests comments concerning the scope of the analysis and identification of relevant information and studies. All interested parties are invited to provide input related to the identification of potential alternatives, information, and analyses relevant to the Proposed Action Alternative (Alternative 1) in writing. All written comments should be submitted via any of the methods provided in the ADDRESSES section.

Lead and Cooperating Agencies

The Service is the lead agency for the Environmental Impact Statement, with the Federal Emergency Management Agency; U.S. Army Corps of Engineers; and Department of Defense, U.S. Navy as cooperating agencies.

Decision Maker

The Decision Maker is the Service's Regional Director for the U.S. Fish and Wildlife Service, Pacific Southwest Region.

Nature of Decision To Be Made

The Regional Director, after considering the analysis and information provided in the final Environmental Impact Statement, as well as the comments received throughout the draft Environmental Impact Statement review process, will determine if the proposed action sufficiently achieves the purpose and need for the project. The decision, which will be documented in the Record of Decision, will also consider the consistency of the action with agency policies, regulations, and applicable laws, as well as the contribution the action will make towards achieving the purposes for which the San Diego Bay National Wildlife Refuge was established, while also contributing to the mission and goals of the National Wildlife Refuge System.

Public Availability of Comments

Before including your address, phone number, email address, or other personal identifying information in your comment, you should be aware that your entire comment—including your personal identifying information—may be made publicly available at any time. While you can ask us in your comment to withhold your personal identifying information from public review, we cannot guarantee that we will be able to do so.

Authority

This document is published under the authority of NEPA regulations pertaining to the publication of a notice of intent to issue an Environmental Impact Statement (40 CFR 1501.9(d)).

Curtis McCasland,
Acting Regional Director, Pacific Southwest Region.

[FR Doc. 2025-00337 Filed 1-8-25; 8:45 am]

BILLING CODE 4333-15-P